DEPARTMENT OF DEFENSE

Office of the Secretary

Reserve Forces Policy Board; Notice of Federal Advisory Committee Meeting

AGENCY: Office of the Secretary of Defense, Reserve Forces Policy Board, Department of Defense.

ACTION: Notice of Federal Advisory Committee meeting.

SUMMARY: The Department of Defense (DoD) is publishing this notice to announce that the following Federal Advisory Committee meeting of the Reserve Forces Policy Board (RFPB) will take place.

DATES: Wednesday, June 8, 2016 from 9:00 a.m. to 4:30 p.m.

ADDRESSES: The address is the Pentagon, Room 3E863, Arlington, VA.

FOR FURTHER INFORMATION CONTACT: Mr. Alex Sabol, Designated Federal Officer, (703) 681-0577 (Voice), (703) 681-0002 (Facsimile), Email: Alexander.J.Sabol.Civ@Mail.Mil. Mailing address is Reserve Forces Policy Board, 5113 Leesburg Pike, Suite 601, Falls Church, VA 22041. Web site: http://rfpb.defense.gov/. The most up-to-date changes to the meeting agenda can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review, and evaluate information related to strategies, policies, and practices designed to improve and enhance the capabilities, efficiency, and effectiveness of the Reserve Components.

Agenda: The RFPB will hold a meeting from 9:00 a.m. to 4:30 p.m. The portion of the meeting from 9:00 a.m. to 12:30 p.m. will be closed to the public and will consist of remarks to the RFPB from following invited speakers: The Under Secretary of the Navy will discuss the key challenges and priorities for the Navy in this period of fiscal uncertainty and an increasingly challenging security environment. The Senior Enlisted Advisor to the Joint Chiefs of Staff will address key national security challenges facing our Nation and priorities for adapting the force. The Acting Under Secretary of Defense for Personnel & Readiness (USD P&R), being newly assigned, will discuss his provided guidance for OUSD P&R to include the progress on the OUSD P&R reorganization, its effects on the oversight of Reserve Component policies and programs, his views on key Reserve Component challenges, and will conclude with a discussion on the overall DoD force readiness. The Secretary of the U.S. Army, being newly assigned, will discuss his provided guidance to the Army posture, his views on the Report of the National Commission on the Future of the Army, and his plans to adapt the Total Army to meet future challenges. The portion of the meeting from 12:30 p.m. to 4:30 p.m. will be open to the public and will consist of the following briefings: The Assistant Secretary of Defense for Manpower and Reserve Affairs, being newly assigned, will discuss his guidance on his Office of Manpower and Reserve Affairs, and their oversight of Reserve Component policies and programs and his views on key Reserve Component challenges facing DoD. IDA will brief the updates on findings of their ongoing study on the Reserve Components' effectiveness during Operation Iraqi Freedom. The Chair of the Supporting & Sustaining Reserve Component Personnel Subcommittee will discuss the Department's and Service's personnel system reforms being considered under the Force of the Future initiatives to include the integrated personnel and pay systems for each service, the Blended Retirement recommendation, the Dual Status Reform, and Post-9/11 GI Bill eligibility for title 32 Full Time National Guard Duty, the 20% Military Technician reduction, and the effects of these reforms on the Reserve Components. The Chair of the Ensuring a Ready, Capable, Available and Sustainable Operational Reserve Subcommittee will update the status onto the RFPB's recommendation to SecDef on the Operational Reserve definition, and will also have a discussion with the Principal Deputy Assistant Secretary of Defense for Health Affairs about Reserve medical readiness issues to include how the Department views medical readiness, current systems used to track readiness, as well as initiatives within the Department to improve readiness within the Reserve Components. The Chair of the Enhancing DoD's Role in the Homeland Subcommittee will provide updates on the DoD's support of civil authorities and FEMA requirements, and will have a discussion with the Senior Advisor to the Assistant Secretary of Defense for Homeland Defense and Global on the DoD's policy guidance for Cyber support and services involving the National Guard and State Cyber activities, and the integration of the Reserve Component in DoD's Cyber Mission Force. The RFPB meeting will conclude with a discussion from the Chairman on the status of the RFPB Issues New Administration Transition Book that will be provided for the Department's briefings for the New Administration.

Meeting Accessibility: Pursuant to section 10(a)(1) of the FACA and 41 CFR 102-3.140 through 102-3.165, and subject to the availability of space, the meeting is open to the public from 12:30 p.m. to 4:30 p.m. Seating is on a first-come, first-served basis. All members of the public who wish to attend the public meeting must contact Mr. Alex Sabol, the Designated Federal Officer, not later than 12:00 p.m. on Tuesday, June 7, 2016, as listed in the FOR FURTHER INFORMATION CONTACT section to make arrangements for a Pentagon escort, if necessary. Public attendees requiring escort should arrive at the Pentagon Metro Entrance with sufficient time to complete security screening no later than 12:15 p.m. on June 8. To complete the security screening, please be prepared to present two forms of identification. One must be a picture identification card. In accordance with section 10(d) of the FACA, 5 U.S.C. 552b, and 41 CFR 102-3.155, the DoD has determined that the portion of this meeting scheduled to occur from 9:00 a.m. to 12:30 p.m. will be closed to the public. Specifically, the Acting Under Secretary of Defense (Personnel and Readiness), in coordination with the Department of Defense FACA Attorney, has determined in writing that this portion of the meeting will be closed to the public because it is likely to disclose classified matters covered by 5 U.S.C. 552b(c)(1).

Written Statements: Pursuant to 41 CFR 102-3.105(j) and 102-3.140 and section 10(a)(3) of the FACA, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's Web site.

Dated: May 18, 2016.
Aaron Siegel,
Alternate OSD Federal Register Liaison Officer, Department of Defense.

[FR Doc. 2016-12050 Filed 5-20-16; 8:45 am]

BILLING CODE 5001-06-P